DEPARTMENT OF HEALTH AND HUMAN SERVICES

Administration for Children and Families

Proposed Information Collection Activity; Comment Request

Proposed Projects

Title: Provision of Child Support Services in IV-D cases under the Hague Child Support Convention; Federally Approved Forms.

OMB No.: New Collection.

Description: On January 1, 2017, the 2007 Hague Convention on the International Recovery of Child Support and Other Forms of Family Maintenance will enter into force for the United States. This Convention contains groundbreaking provisions that, for the first time on a worldwide scale, will establish uniform, simple, fast, and inexpensive procedures for the processing of international child support cases. Once the Convention is in effect, U.S. states will process child support cases with other countries that have ratified the Convention under the requirements of the Convention and Article 7 of the Uniform Interstate Family Support Act (UIFSA 2008). In order to comply with the Convention, the U.S. must implement the Convention's case processing forms.

State and Federal law require states to use Federally-approved case processing forms. Section 311(b) of UIFSA 2008, which has been enacted by all 50 states, the District of Columbia, Guam, Puerto Rico and the Virgin Islands, requires States to use forms mandated by Federal law. 45 CFR 303.7 also requires child support programs to use federally-approved forms in intergovernmental IV-D cases unless a country has provided alternative forms as a part of its chapter in a Caseworker's Guide to Processing Cases with Foreign Reciprocating Countries.

Respondents: State agencies administering a child support program under title IV-D of the Social Security Act.

Annual Burden Estimates
Instrument | Number of respondents | Number of responses per respondent | Average burden hours per response | Total burden hours
Annex I: Transmittal form under Article 12(2) | 54 | 46 | 1 | 2,484
Annex II: Acknowledgment form under Article 12(3) | 54 | 93 | .5 | 2,511
Annex A: Application for Recognition and Enforcement, including restricted information on the applicant | 54 | 19 | .5 | 513
Annex A: Abstract of Decision | 54 | 5 | 1 | 270
Annex A: Statement of Enforceability of Decision | 54 | 19 | 0.17 | 174
Annex A: Statement of Proper Notice | 54 | 5 | .5 | 135
Annex A: Status of Application Report | 54 | 37 | .33 | 659
Annex B: Application for Enforcement of a Decision Made or Recognized in the Requested State, including restricted information on the applicant | 54 | 19 | .5 | 513
Annex B: Status of Application Report, Article 12 | 54 | 37 | .33 | 659
Annex C: Application for Establishment of a Decision, including restricted information on the Applicant | 54 | 5 | .5 | 135
Annex C: Status of Application Report—Article 12 | 54 | 9 | .33 | 160
Annex D: Application for Modification of a Decision, including Restricted Information on the Applicant | 54 | 5 | .5 | 135
Annex D: Status of Application Report—Article 12 | 54 | 9 | .33 | 160
Annex E: Financial Circumstances Form | 54 | 46 | 2 | 4,968
Estimated Total Annual Burden Hours |  |  |  | 13,478

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2016-23722 Filed 9-29-16; 8:45 am]

BILLING CODE 4184-01-P